INTERNATIONAL TRADE COMMISSION

[Investigation No. 337-TA-1198]

Certain Spa Pumps, Jet Pump Housings, Pedicure Spas, Components Thereof, and Products Containing the Same; Commission Determination Not To Review an Initial Determination Granting an Unopposed Motion To Terminate the Investigation; Termination of the Investigation

AGENCY: U.S. International Trade Commission.

ACTION: Notice.

SUMMARY: Notice is hereby given that the U.S. International Trade Commission has determined not to review an initial determination (“ID”) (Order No. 5) of the presiding administrative law judge (“ALJ”) granting an unopposed motion to terminate the investigation based on withdrawal of the complaint.

FOR FURTHER INFORMATION CONTACT: Amanda Pitcher Fisherow, Esq., Office of the General Counsel, U.S. International Trade Commission, 500 E Street SW, Washington, DC 20436, telephone (202) 205-2737. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on May 11, 2020, based on a complaint filed by Luraco Health & Beauty, LLC of Arlington, Texas (“Complainant”). 85 FR 27762 (May 11, 2020). The complaint, as supplemented, alleges violations of section 337 of the Tariff Act of 1930, as amended, 19 U.S.C. 1337, based upon the importation into the United States, the sale for importation, and the sale within the United States after importation of certain spa pumps, jet pump housings, pedicure spas, components thereof, and products containing same by reason of infringement of certain claims in U.S. Patent No. 9,926,933; U.S. Patent No. D622,736; U.S. Patent No. D751,723; and U.S. Patent No. 10,451,071. The complaint, as amended, further alleges that a domestic industry exists. The notice of investigation named as respondents GTP International Corp. of Dallas, Texas; Lac Long U.S., Inc. of Westminster, California; Lac Long Co. Ltd. of Long An, Vietnam; and Alfalfa Nail Supply, Inc., Baton Rouge, Louisiana. Id. The Office of Unfair Import Investigations was also named as a party to the investigation. Id.

On May 19, 2020, Complainant moved to withdraw the complaint and to stay the procedural schedule. No one filed a response to the motion.

On May 22, 2020, the presiding ALJ issued Order No. 5, terminating the investigation based on withdrawal of the complaint. The ALJ notes that the motion is granted, inter alia, because granting the motion is in the public interest. No petitions for review were filed.

The Commission has determined not to review the subject ID. This investigation is terminated.

The Commission vote for this determination took place on June 9, 2020.

The authority for the Commission's determination is contained in section 337 of the Tariff Act of 1930, as amended (19 U.S.C. 1337), and in part 210 of the Commission's Rules of Practice and Procedure (19 CFR part 210).

While temporary remote operating procedures are in place in response to COVID-19, the Office of the Secretary is not able to serve parties that have not retained counsel or otherwise provided a point of contact for electronic service. Accordingly, pursuant to Commission Rule §§ 201.16(a) and 210.7(a)(1) (19 CFR 201.16(a), 210.7(a)(1)), the Commission orders that the Complainant(s) complete service for any party/parties without a method of electronic service noted on the attached Certificate of Service and shall file proof of service on the Electronic Document Information System (EDIS).

By order of the Commission.
Issued: June 9, 2020.
Lisa Barton,
Secretary to the Commission.

[FR Doc. 2020-12833 Filed 6-12-20; 8:45 am]

BILLING CODE 7020-02-P